DEPARTMENT OF THE INTERIOR

Bureau of Land Management

[CO-160-1430-EU; COC-69635]

Notice of Realty Action: (Non-Competitive) Direct Sale of Public Lands, Hinsdale County, CO

AGENCY: Bureau of Land Management, Interior.

ACTION: Notice of Realty Action.

SUMMARY: The following described 0.76-acre public land parcel near Lake City, Hinsdale County, Colorado, has been examined and found suitable for title transfer by (non-competitive) direct sale to Patsie and Michael DeHuff. The sale will be conducted under the authority of section 203(f)(2) of the Federal Land Policy and Management Act of 1976, as amended, 43 U.S.C. 1701 et seq. (FLPMA) and CFR 2711.3-3(a), and will take place according to procedures governing direct sale of public land.

DATES: On or before September 4, 2007, interested parties may submit comments concerning the proposed sale to the BLM Field Office Manager at the below address. Only written comments will be accepted.

ADDRESSES: Address all written comments concerning this notice to the Field Manager, BLM Gunnison Field Office, 216 N. Colorado St., Gunnison, Colorado 81230.

FOR FURTHER INFORMATION CONTACT: Marnie Medina, Realty Specialist, at the above address, or call: (970) 642-4457.

SUPPLEMENTARY INFORMATION: The 0.76-acre parcel is approximately 5 miles west of Lake City, in Hinsdale County, Colorado. It is offered on a non-competitive (direct) sale basis to Patsie and Michael DeHuff in accordance with Section 203(f)(2) of the Federal Land Policy and Management Act of 1976 (FLPMA) and 43 CFR 2711.3-3(a). The BLM Gunnison Field Manager has determined that a non-competitive (direct) sale will be in the best interest of the public. In accordance with 43 CFR 2711.3-3(a)(5), this parcel is being offered by (non-competitive) direct sale to Patsie and Michael DeHuff at not less than the appraised fair market value (FMV) as determined by the authorized officer after appraisal. An appraisal report has been prepared by a State-certified appraiser for the purpose of establishing FMV. Direct sale is based on the DeHuff's inadvertent occupancy of the parcel and value of added improvements consisting of a log cabin residence, solar panels, a battery and generator shed, buried electric lines from the solar panels to the shed and to the cabin, a 165-foot deep domestic water well, a septic system, a buried 500-gallon propane tank, a parking pad, a driveway, and other personal property.

The parcel is described as follows:

New Mexico Principal Meridian

Colorado

T. 44 N., R. 5 W.,

Tract 37.

The area described contains 0.76 acre, more or less, in Hinsdale County.

The market value for this land, utilizing direct sale procedures, at not less than the current appraised fair market value, is determined to be $7,000.00.

This 0.76-acre parcel is not required for any Federal purposes. It has been determined that this parcel is impractical to manage as part of the public lands. BLM has determined that resource values will not be adversely affected by title transfer of this 0.76-acre parcel to non-Federal ownership. Sale of the parcel conforms to criteria of the BLM Gunnison Resource Area Resource Management Plan (RMP) approved in February 1993. The patent, when issued, will contain the following reservations, covenants, terms and conditions:

1. The parcel will be conveyed with a reservation of a right-of-way to the United States for ditches and canals constructed by the authority of the United States under the Act of August 30, 1890 (43 U.S.C. 945).

2. The patentee, by accepting the patent, agrees to indemnify, defend, and hold the United States harmless from any costs, damages, claims, causes of action, penalties, fines, liabilities, and judgments of any kind arising from the past, present, or future acts or omissions of the grantor, its employees, agents, contractor, or lessees, or a third party arising out of, or in connection with, the grantor's use and/or occupancy of the deeded real property resulting in: Violations of Federal, State and local laws and regulations that are now, or in the future become, applicable to the real property: (1) Judgments, claims, or demands of any kind assessed against the United States; (2) costs, expenses, or damages of any kind incurred by the United States; (3) releases or threatened releases of solid or hazardous waste(s) and/or hazardous substance(s) as defined by Federal or State environmental laws, off, on, into, or under land, property, and other interests of the United States; (4) other activities by which solids or hazardous substances or wastes, as defined by Federal and State environmental laws are generated, released, stored, used, or otherwise disposed of on the deeded real property, and any cleanup response, remedial action, or other actions related in any manner to said solid or hazardous substances or wastes; or (5) natural resource damages as defined by Federal and State law. This covenant shall be construed as running with the deeded real property and may be enforced by the United States in a court of competent jurisdiction.

Pursuant to the requirements established by Section 120(h) of the Comprehensive Environmental Response, Compensation and Liability Act (CERCLA), (42 U.S.C. 9620(h)), as amended by the Superfund Amendments and Reauthorization Act of 1988, (100 Stat. 1670), notice is hereby given that the above-described parcel has been examined and no evidence was found to indicate that any hazardous substances have been stored for one year or more, nor had any hazardous substances been disposed of or released on the subject property.

Upon publication of this notice in the Federal Register the parcel will be segregated from appropriation under the public land laws, including the general mining laws, except the sale provisions of the Federal Land Policy Management Act of 1976. The segregation will terminate upon issuance of the patent, upon publication in the Federal Register of a termination of the segregation, or on July 20, 2009, whichever occurs first unless extended by the BLM State Director, Colorado, in accordance with 43 CFR 2711.1-2(d) prior to the termination date.

No warranty of any kind, expressed or implied, is given by the United States as to the title, the parcel's physical condition or potential uses. The conveyance will not be on a contingency basis. It is the buyer's responsibility to be aware of all applicable Federal, State, or local government laws, regulations, or policies that may affect the subject parcel or its future uses. It is also the buyer's responsibility to be aware of existing or prospective uses of nearby properties.

The land will not be offered for sale until at least 60 days after the date of publication of this notice in the Federal Register. In the event of a sale, the unreserved mineral interests will be conveyed simultaneously with the sale of the land. These unreserved mineral interests have been determined to have no known mineral value pursuant to 43 CFR 2720.2(a). Acceptance of the sale offer will constitute an application for conveyance of those unreserved mineral interests. The purchaser will be required to pay a $50.00 non-refundable filing fee for conveyance of the available mineral interests. The purchaser will have 30 days from date of receiving the sale offer to accept the offer and to submit a deposit of 20 percent of the purchase price, the $50.00 filing fee for conveyance of mineral interests, and for payment of publication costs. The purchaser must remit the remainder of the purchase price within 180 days from the date the sale offer is received. Payments must be by certified check, postal money order, bank draft, or cashier's check payable to the U.S. Department of the Interior—BLM. Failure to meet conditions established for this sale will void the sale and any monies received will be forfeited. Failure or refusal by Patsie and Michael DeHuff to submit the required fair market appraisal amount within 180 days of the sale of the parcel will constitute a waiver of this preference consideration and this parcel may be offered for sale on a competitive or modified competitive basis.

Public Comments

For a period until September 4, 2007, interested parties and the general public may submit in writing any comments concerning the land being offered for sale, including notification of any encumbrances or other claims relating to the identified land, to the Field Manager, BLM Gunnison Field Office, at the above address. In order to ensure consideration in the environmental analysis of the proposed sale, comments must be in writing and postmarked or delivered within 45 days of the initial date of publication of this Notice. Comments sent via e-mail will not be accepted. Comments, including names and street addresses of respondents, will be available for public review at the BLM Gunnison Field Office during regular business hours, except holidays. Individual respondents may request confidentiality. Before including your address, phone number, e-mail address, or other personal identifying information in your comment, be advised that your entire comment—including your personal identifying information—may be made publicly available at any time. While you can ask us in your comment to withhold from public review your personal identifying information, we cannot guarantee that we will be able to do so.

Any adverse comments will be reviewed by the BLM Colorado State Director, who may sustain, vacate, or modify this realty action. In the absence of any objections or adverse comments, this proposed realty action will become the final determination of the Department of the Interior.

(Authority: 43 CFR 2711.1-2)

Arden Anderson,
Acting Field Manager, Gunnison.

[FR Doc. E7-13798 Filed 7-17-07; 8:45 am]

BILLING CODE 4310-JB-P